NUCLEAR REGULATORY COMMISSION

[Docket No. 50-335]

Florida Power and Light Company; St. Lucie Plant, Unit No. 1, Environmental Assessment and Finding of No Significant Impact

The U.S. Nuclear Regulatory Commission (NRC) is considering issuance of an exemption from Title 10 of the Code of Federal Regulations (10 CFR) Part 50, Appendix R, Section III.G.2.d for Facility Operating License No. DPR-67, issued to Florida Power and Light Company (the licensee), for operation of the St. Lucie Plant, Unit No. 1, located in St. Lucie County, Florida. Therefore, as required by 10 CFR 51.21, the NRC is issuing this environmental assessment and finding of no significant impact.

Environmental Assessment

Identification of the Proposed Action

Pursuant to 10 CFR Part 50, Appendix R, Section III.G.2.d, cables and equipment and associated nonsafety circuits of redundant trains located inside noninerted containments are required to be separated by a horizontal distance of more than 20 feet with no intervening combustibles or fire hazards. The proposed action would allow a minimum horizontal separation of 7 feet between redundant cable trays with no intervening combustibles in the containment annular region between column lines 2 and 6.

The proposed action is in accordance with the licensee's application dated October 4, 2000, as supplemented by letters dated June 28, 2001, November 29, 2001, May 15, 2002 and October 22, 2002.

The Need for the Proposed Action

On February 21, 1985, the NRC staff approved an exemption from 10 CFR part 50, Appendix R, Section III.G.2.d, to allow cables of redundant trains inside the St. Lucie Unit 1 containment building to be located less than 20 feet apart horizontally. On March 5, 1987, the NRC staff approved a revision to this exemption to allow minimal intermittent combustibles between the redundant trains. The staff approved the exemptions based, in part, on the redundant trains being separated by more than 7 feet horizontally and 25 feet vertically. The licensee subsequently determined that the assumption of 25 feet vertical separation was incorrect. The proposed action would revise the exemption to eliminate the vertical separation assumption. The licensee provided a fire hazard assessment utilizing a detailed fire model to demonstrate that, with the existing vertical separation and a minimum of 7 feet horizontal separation, a fire in one train will not damage the redundant train. The revised request limits the exemption to the cable trays in the containment annular region between radial column lines 2 and 6 and permits no intervening combustibles.

In summary, the exemption would be revised to allow separation of cables of redundant trains by a horizontal distance of at least 7 feet with no intervening combustibles inside containment in the annular region between radial column lines 2 and 6.

Environmental Impacts of the Proposed Action

The NRC has completed its evaluation and concludes, as set forth below, that there are no significant environmental impacts associated with the proposed exemption. The details of the staff's safety evaluation will be provided with the exemption when it is issued by the NRC.

The proposed action will not significantly increase the probability or consequences of accidents, there are no significant changes in the types or significant increase in the quantities of effluents that may be released offsite, and there is no significant increase in occupational or public radiation exposure.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement related to the St. Lucie Plant Unit 1, dated June 1973 and Supplement 11 to NUREG-1437, “Generic Environmental Impact Statement for License Renewal of Nuclear Plants Regarding St. Lucie, Units 1 and 2,” dated May 2003.

Agencies and Persons Consulted

On November 3, 2003, the staff consulted with the Florida State official, Mr. William Passetti of the Department of Health, Bureau of Radiation Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated October 23, 2002, as supplemented on August 28, 2003. Documents may be examined, and/or copied for a fee, at the NRC's Public Document Room (PDR), located at One White Flint North, Public File Area O1F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff at 1-800-397-4209, or 301-415-4737, or by e-mail to pdr@nrc.gov.

Dated at Rockville, Maryland, this 9th day of December 2003.
For the Nuclear Regulatory Commission.
Allen G. Howe,
Chief, Section 2, Project Directorate II, Division of Licensing Project Management, Office of Nuclear Reactor Regulation.

[FR Doc. 03-30860 Filed 12-12-03; 8:45 am]

BILLING CODE 7590-01-P